DEPARTMENT OF VETERANS AFFAIRS

National Research Advisory Council; Notice of Meeting

The Department of Veterans Affairs (VA) gives notice under Public Law 92-463 (Federal Advisory Committee Act) that the National Research Advisory Council will hold a meeting on Tuesday, May 11, 2010, in room GL-20 at the Greenhoot Cohen Building, 1722 Eye Street NW., Washington, DC. The meeting will convene at 9:30 a.m. and end at 4 p.m. The meeting is open to the public.

The purpose of the Council is to provide external advice and review for VA's research mission. The agenda will include a review of the VA research portfolio, ethics training and a scientific presentation on basic sciences research. The Council will also provide feedback on the direction/focus of VA's research initiatives.

Time will be allocated for receiving public comments at 3:15 p.m. to 4 p.m. Public comments will be limited to five minutes each. Individuals who speak are invited to submit a 1-2 page summary of their comments at the time of the meeting for inclusion in the official meeting record.

Members of the public may direct questions or submit written statements for review by the Committee in advance of the meeting to Ms. Margaret Hannon, Designated Federal Officer, Department of Veterans Affairs, Office of Research and Development (12) 810 Vermont Avenue, NW., Washington, DC 20420 or e-mail at Margaret.Hannon@va.gov. Any member of the public wishing to attend the meeting or wishing further information should contact Ms. Hannon at (202) 461-1696.

Dated: April 13, 2010.
By Direction of the Secretary:
Vivian Drake,
Acting Committee Management Officer.

[FR Doc. 2010-8823 Filed 4-16-10; 8:45 am]

BILLING CODE P